NATIONAL AERONAUTICS AND SPACE ADMINISTRATION

[Notice 00-124]

NASA Advisory Council (NAC), Space Science Advisory Committee (SScAC), Solar System Exploration Subcommittee

AGENCY: National Aeronautics and Space Administration.

ACTION: Notice of meeting.

SUMMARY: In accordance with the Federal Advisory Committee Act, Public Law 92-463, as amended, the National Aeronautics and Space Administration announces a meeting of the NASA Advisory Council, Space Science Advisory Committee, Solar System Exploration Subcommittee.

DATES: Monday, October 30, 2000, 8:30 a.m. to 5 p.m., and Tuesday, October 31, 2000, 8:30 a.m. 5 p.m.

ADDRESSES: Infrared Processing and Analysis Center, (IPAC), Conference Room 102, in Building 22, 770 South Wilson Road, Pasadena, California 91125.

FOR FURTHER INFORMATION CONTACT: Jay Bergstralh, Code SR, National Aeronautics and Space Administration, Washington, DC 20546, (202) 358-0735.

SUPPLEMENTARY INFORMATION: The meeting will be open to the public up to the capacity of the room. The agenda for the meeting is as follows:

—Mars Architecture Development

—Europa Mission Update

—Outer Planets Science Strategy

—Pluto Science Drivers

—Future Outer Planets Mission Options

It is imperative that the meeting be held on these dates to accommodate the scheduling priorities of the key participants. Visitors will be requested to sign a visitor's register.

Dated: October 5, 2000.
Beth M. McCormick,
Advisory Committee Management Officer, National Aeronautics and Space Administration.

[FR Doc. 00-26203 Filed 10-11-00; 8:45 am]

BILLING CODE 7510-01-P